DEPARTMENT OF LABOR

Occupational Safety and Health Administration

[Docket No. ICR 1218-0226(2004)]

Standard on Manlifts; Extension of the Office of Management and Budget's (OMB) Approval of Information Collection (Paperwork) Requirements

AGENCY: Occupational Safety and Health Administration (OSHA), Labor.

ACTION: Request for comment.

SUMMARY: OSHA solicits comments concerning its proposal to extend OMB approval of the Information Collection requirement contained in the Standard on Manlifts (29 CFR 1910.68(e)). The information collected is used by employers and employees where manlifts are operated. The purpose of the requirement is to reduce employee's risk of death or serious injury by ensuring that manlifts are in safe operating condition.

DATES: Comments must be submitted by the following dates:

Hard Copy: Your comments must be submitted (postmarked or received) by September 17, 2004.

Facsimile and electronic transmission: Your comments must be received by September 17, 2004.

ADDRESSES:

I. Submission of Comments

Electronic: OSHA permits electronic submission of comments through its Web site at http://ecomments.osha.gov; please include Docket No. ICR-1218-0226(2004) on the subject line of the message. If one would like to submit additional materials to be associated with a comment submitted electronically, they should be sent, in triplicate hard copy, to the OSHA Docket Office at the above address. These materials must clearly identify the sender's name, date, subject, and docket number to enable the Agency to attach them to the appropriate comments.

Facsimile: OSHA allows facsimile transmission of comments that are 10 pages or fewer in length (including attachments). Send these comments, identified with Docket No. ICR-1218-0226(2004) to the OSHA Docket Office at (202) 693-1648; hard copies of these comments are not required. Commenters may submit attachments to their comments, such as studies and journal articles, in triplicate hard copy to the OSHA Docket Office at the above address instead of transmitting facsimile copies of these materials. These materials must clearly identify the sender's name, date, subject, and docket number so that the Agency can attach them to the appropriate comments.

Regular mail, express delivery, hand delivery, and messenger service: Submit three copies of comments (including attachments) to the OSHA Docket Office, Docket No. ICR-1218-0226(2004), Technical Data Center, Room N-2625, OSHA, U.S. Department of Labor, 200 Constitution Ave., NW., Washington, DC 20210; telephone (202) 693-2350. Please contact the OSHA Docket Office at (202) 693-2350 for information about security procedures concerning the delivery of material by express delivery, hand delivery, and messenger service. The hours of operation for the OSHA Docket Office and Department of Labor are 8:15 a.m. to 4:45 p.m., e.s.t.

II. Obtaining Copies of the Supporting Statement for the Information Collection Request

The Supporting Statement for the Information Collection Request (ICR) is available for downloading from OSHA's Web site at http://www.osha.gov. The complete ICR, containing the OMB Form 83-I, Supporting Statement, and attachments, is available for inspection and copying in the OSHA Docket Office, at the address listed above. A printed copy of the ICR can be obtained by contacting Theda Kenney at (202) 693-2222.

FOR FURTHER INFORMATION CONTACT: Theda Kenney, Directorate of Standards and Guidance, OSHA, U.S. Department of Labor, Room N-3609, 200 Constitution Avenue, NW., Washington, DC 20210; telephone (202) 693-2222.

SUPPLEMENTARY INFORMATION:

I. Submission of Comments on this Notice and Internet Access to Comments and Submissions

You may submit comments in response to this document by (1) hard copy, (2) fax transmission (facsimile), or (3) electronically through the OSHA Web page. Please note that you cannot attach materials such as studies or journal articles to electronic comments. If you have additional materials, you must submit three copies of them to the OSHA Docket Office at the address above. The additional materials must clearly identify your electronic comments by name, date, subject and docket number so that we can attach them to your comments. Because of security related problems there may be a significant delay in the receipt of comments by regular mail. Please contact the OSHA Docket Office at (202) 693-2350 for information about security procedures concerning the delivery of materials by express delivery, hand delivery and messenger service.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is correct. The Occupational Safety and Health Act of 1970 (the Act) authorizes information collection by employers as necessary or appropriate for enforcement of the Act or for developing information regarding the causes and prevention of occupational injuries, illnesses, and accidents (29 U.S.C. 657).

29 CFR 1910.68(e) requires that each manlift be inspected at least once every 30 days. The manlift inspection is to cover at least the following items: Steps; step fastenings; rails; rail supports and fastenings; rollers and slides; belt and belt tension; handholds and fastenings; floor landings; guardrails; lubrication; limit switches; warning signs and lights; illumination; drive pulley; bottom (boot) pulley and clearance; pulley supports; motor; driving mechanism; brake; electrical switches; vibration and misalignment; and any “skip” on the up or down run when mounting a step (indicating worn gears). A certification record of the inspection must be made upon completion of the inspection. The record must contain the date of the inspection, the signature of the person who performed the inspection, and the serial number or other identifier of the inspected manlift. The record provides assurance to employers, employees, and compliance officers that manlifts were inspected as required by the Standard. The inspections are made to keep equipment in safe operating condition, thereby preventing manlift failure while carrying employees to elevated worksites. These records also provide the most efficient means for the compliance officers to determine that an employer is complying with the Standard.

III. Special Issues for Comment

OSHA has a particular interest in comments on the following issues:

• Whether the proposed information collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information collection and -transmission techniques.

IV. Proposed Actions

OSHA is proposing to extend the information collection requirement in the Manlifts Standard (29 CFR 1910.68(e)). The Agency will summarize the comments submitted in response to this notice, and will include this summary in its request to OMB to extend the approval of the information collection requirement.

Type of Review: Extension of currently approved information collection requirements.

Title: Standard on Manlifts (29 CFR 1910.68(e)).

OMB Number: 1218-0226.

Affected Public: Business or other for-profit; not-for-profit institutions; Federal government; State, local, or tribal governments.

Number of Respondents: 3,000.

Frequency of Recordkeeping: Monthly.

Average Time per Response: Varies from 2 minutes (.03 hour) for an employer to disclose the inspection certification record to 1 hour to inspect a manlift.

Total Annual Hours Requested: 37,801.

Estimated Cost (Operation and Maintenance): $0.

V. Authority and Signature

John L. Henshaw, Assistance Secretary of Labor for Occupational Safety and Health, directed the preparation of this notice. The authority for this notice is the Paperwork Reduction Act of 1995 (44 U.S.C. 3506), and Secretary of Labor's Order No. 5-2002 (67 FR 65008).

Signed at Washington, DC, on July 13, 2004.
John L. Henshaw,
Assistant Secretary of Labor.

[FR Doc. 04-16338 Filed 7-16-04; 8:45 am]

BILLING CODE 4510-26-M